DEPARTMENT OF HEALTH AND HUMAN SERVICES

National Institutes of Health

National Cancer Institute; Amended Notice of Meeting

Notice is hereby given of a change in the meeting of the National Cancer Advisory Board (NCAB), February 15, 2000, 9:00 AM to February 16, 2000, 12:00 PM, National Institutes of Health, 9000 Rockville Pike, Building 31, C Wing, 6th Floor, Conference Room 10, Bethesda, Maryland 20892, which was published in the Federal Register on January 28, 2000, 65 FR 4563.

In lieu of a face-to-face meeting, the NCAB will now convene by way of a telephone conference call on Wednesday, February 16, 2000, between the hours of 10:00 AM to 12;15 PM.

The meeting will be open to the public as indicated below, with attendance limited to space available. Individuals who plan to observe the open portion of the telephone conference call and need special assistance, such as sign language interpretation or other reasonable accommodation, should notify the contact person listed below in advance of the meeting.

The meeting will be closed to the public as indicated below.

Name of Committee: National Cancer Advisory Board.

Date: February 16, 2000 (Teleconference).

Open: February 16, 10:00 a.m. to 11:40 a.m.

Agenda: Approval of December 1999 meeting minutes; annual approval of operating guidelines and delegation of authority; Director's Report; other business of the Board.

Closed: February 16, 2000, 11:45 a.m. to Adjournment.

Agenda: Review of Grant Applications.

Place: Building 31 C, Wing, 6 Floor Conference Room 10, National Institutes of Health, 9000 Rockville Pike, Bethesda, MD 20892.

Contact Person: Dr. Marvin R. Kalt, Executive Secretary, National Cancer Institute, National Institutes of Health, 6116 Executive Boulevard, 8th Floor, Room 8022, Bethesda, MD 20892-8327, (301) 496-5147.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cencer Control, National Institutes of Health, HHS)

Dated: February 3, 2000.
LaVerne Y. Stringfield,
Director, Office of Federal Advisory Committee Policy.

[FR Doc. 00-2911 Filed 2-8-00; 8:45 am]

BILLING CODE 4140-01-M